DEPARTMENT OF THE INTERIOR

National Park Service

[NPS-WASO-NAGPRA-15091;PPWOCRADN0-PCU00RP14.R50000]

Notice of Intent To Repatriate Cultural Items: U.S. Department of Agriculture, Forest Service, Coconino National Forest, Flagstaff, AZ

AGENCY: National Park Service, Interior.

ACTION: Notice.

SUMMARY: The U.S. Department of Agriculture (USDA), Forest Service, Coconino National Forest, in consultation with the appropriate Indian tribes, has determined that the cultural items listed in this notice meet the definition of objects of cultural patrimony. Representatives of any Indian tribe not identified in this notice that wish to claim these cultural items should submit a written request to the USDA Forest Service, Southwestern Region. If no additional claimants come forward, transfer of control of the cultural items to the Indian tribes stated in this notice may proceed.

DATES: Representatives of any Indian tribe not identified in this notice that wish to claim these cultural items should submit a written request with information in support of the claim to the USDA Forest Service, Southwestern Region, at the address in this notice by April 23, 2014.

ADDRESSES: Dr. Frank E. Wozniak, NAGPRA Coordinator, Southwestern Region, USDA Forest Service, 333 Broadway Blvd. SE., Albuquerque, NM 87102, telephone (505) 842-3238, email fwozniak@fs.fed.us.

SUPPLEMENTARY INFORMATION: Notice is here given in accordance with the Native American Graves Protection and Repatriation Act (NAGPRA), 25 U.S.C. 3005, of the intent to repatriate cultural items in the physical custody of the Museum of Northern Arizona and under the control of the USDA Forest Service, Coconino National Forest, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Between 1936 and 1947, several fragments of painted wooden sticks were removed from prehistoric archeological sites on lands administered by the USDA Forest Service in Coconino County, AZ. These items were collected by private individuals without permission or knowledge of the USDA Forest Service. In 1981, these items were donated to the Museum of Northern Arizona, where they are currently housed, with the USDA Forest Service retaining legal control of the items.

The fragments of wooden sticks comprise an unknown number of whole items, but are represented by three catalog numbers at the museum (A12399, A12995, and A12998). All of the items consist of wooden sticks ranging in diameter from 1-2.5 cm but are of unknown length due to breakage. The sticks are covered with blue and green paint derived from natural mineral sources. The sticks were removed from locations referred to as 43 Ruin and Blue Stick Ruin by the private individuals who collected them, but these are not official Forest Service site names.

Consultation with anthropologists at the Museum of Northern Arizona and cultural specialists from the Hopi Tribe of Arizona indicate that these items are pahos, or prayer sticks. During consultation, the Hopi cultural specialists and personnel from the Hopi Cultural Preservation Office stated that these pahos have ongoing historical, traditional, and cultural importance central to the Hopi Tribe and culture, rather than being property owned by an individual. The Hopi Cultural Preservation Office, representing the cultural specialists and religious leaders, has requested repatriation of these objects.

Determinations Made by the USDA Forest Service

Officials of the USDA Forest Service have determined that:

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the objects of cultural patrimony and Hopi Tribe of Arizona.

Additional Requestors and Disposition

Representatives of any Indian tribe not identified in this notice that wish to claim these objects of cultural patrimony should submit a written request with information in support of the claim to Dr. Frank E. Wozniak, NAGPRA Coordinator, Southwestern Region, USDA Forest Service, 333 Broadway Blvd. SE., Albuquerque, NM 87102, telephone (505) 842-3238, email fwozniak@fs.fed.us., by April 23, 2014. After that date, if no additional claimants have come forward, transfer of control of these objects of cultural patrimony to the Hopi Tribe of Arizona may proceed.

The USDA Forest Service is responsible for notifying the Hopi Tribe of Arizona and the Zuni Tribe of the Zuni Reservation, New Mexico, that this notice has been published.

Melanie O'Brien,
Acting Manager, National NAGPRA Program.

[FR Doc. 2014-06270 Filed 3-21-14; 8:45 am]

BILLING CODE 4312-50-P